DEPARTMENT OF LABOR

Employment and Training Administration

[TA-W-55,144]

Boeing Aircraft Company, Integrated Defense Systems, Wichita, KS; Dismissal of Application for Reconsideration

Pursuant to 29 CFR 90.18(C) an application for administrative reconsideration was filed with the Director of the Division of Trade Adjustment Assistance for workers at Boeing Aircraft Company, Integrated Defense Systems, Wichita, Kansas. The application contained no new substantial information which would bear importantly on the Department's determination. Therefore, dismissal of the application was issued.

TA-W-55,144; Boeing Aircraft Company, Integrated Defense Systems, Wichita, Kansas, (October 14, 2004).

Signed at Washington, DC this 15th day of October 2004.
Timothy Sullivan,
Director, Division of Trade Adjustment Assistance.

[FR Doc. E4-2810 Filed 10-22-04; 8:45 am]

BILLING CODE 4510-30-P